DEPARTMENT OF LABOR

Employment and Training Administration

[TA-W-54,066]

Auburn Foundry, Auburn, IN; Notice of Termination of Investigation

Pursuant to section 221 of the Trade Act of 1974, as amended, an investigation was initiated on January 23, 2004 in response to a worker petition filed by a company official on behalf of workers at Auburn Foundry, Auburn, Indiana.

The petitioner has requested that the petition be withdrawn. Consequently, further investigation would serve no purpose, and the investigation has been terminated.

Signed at Washington, DC, this 2nd day of March, 2004.
Linda G. Poole,
Certifying Officer, Division of Trade Adjustment Assistance.

[FR Doc. E4-591 Filed 3-15-04; 8:45 am]

BILLING CODE 4510-13-P